DEPARTMENT OF HOMELAND SECURITY

Transportation Security Administration

[Docket No. TSA-2011-0008]

Aviation Security Advisory Committee (ASAC) Public Meeting

AGENCY: Transportation Security Administration, DHS.

ACTION: Committee Management; notice of Federal Advisory Committee meeting.

SUMMARY: The Transportation Security Administration (TSA) will hold a public meeting of the Aviation Security Advisory Committee (ASAC) on December 7, 2021. The meeting agenda and information on public participation is provided below under SUPPLEMENTARY INFORMATION. In light of the current COVID-19 public health crisis, the meeting will be virtual.

DATES: The Committee will meet on Tuesday, December 7, 2021, from 10:00 a.m. to 1:00 p.m. Eastern Standard Time. This meeting may end early if all business is completed. Requests to attend the meeting must be received by November 19, 2021. Requests to address the Committee must also be received by November 19, 2021.

ADDRESSES: The meeting will be held virtually by teleconference. See the Public Participation information below for instructions on how to register to attend the meeting. Attendance information will be provided upon registration.

FOR FURTHER INFORMATION CONTACT: Tamika McCree Elhilali, Aviation Security Advisory Committee Designated Federal Official, Transportation Security Administration, 6595 Springfield Center Drive, Springfield, VA 20598-6028, ASAC@tsa.dhs.gov, 571-227-2632.

SUPPLEMENTARY INFORMATION:

I. Background

TSA is providing notice of this meeting in accordance with the Aviation Security Stakeholder Participation Act of 2014, Public Law 113-238 (128 Stat. 2842; Dec. 18, 20214), as codified at 49 U.S.C. 44946. The ASAC provides advice and industry perspective to the Administrator of TSA on aviation security matters, including the development, refinement, and implementation of policies, programs, rulemaking, and security directives pertaining to aviation security. While the ASAC is exempt from the Federal Advisory Committee Act (5 U.S.C. App.), see 49 U.S.C. 44946(f), paragraph 44946(c)(4)(B) requires that TSA hold at least one public meeting each year.

II. Meeting Agenda

The Committee will meet to discuss items listed in the agenda below:

• Legislative Update

• REAL ID Update

• Subcommittee and Work Group briefings on calendar year (CY) 2021 activities, key issues, and areas of focus for CY 2022:

○ Air Cargo

○ Airlines

○ Airports

○ General Aviation

○ Insider Threat

○ International Aviation

○ Security Technology

• Public Comments

• Discussion of the CY 2022 Committee Agenda and Meeting Dates

• Closing Comments and Adjournment

III. Public Participation

The meeting will be open to the public and attendance may be limited due to technological and telephonic meeting constraints. Members of the public, all non-ASAC members, and non-TSA staff who wish to attend must register via email by submitting their name, contact number, and affiliation to ASAC@tsa.dhs.gov by November 19, 2021. Attendees will be admitted on a first-to-register basis. Attendance information will be provided upon registration.

In addition, members of the public must make advance arrangements by November 19, 2021, to present oral or written statements. The statements must specifically address issues pertaining to the items listed in the Meeting Agenda section; requests must be submitted via email to: ASAC@tsa.dhs.gov. The public comment period will begin at approximately 12:00 p.m. and will end at 1:00 p.m. Speakers are requested to limit their comments to three minutes.

The ASAC and TSA are committed to providing equal access to this virtual meeting for all participants. If you need alternative formats or services because of a disability, please contact the person listed in the FOR FURTHER INFORMATION CONTACT section before November 19, 2021.

Dated: November 5, 2021.
Victoria E. Newhouse,
Deputy Assistant Administrator, Policy, Plans, and Engagement.

[FR Doc. 2021-24643 Filed 11-10-21; 8:45 am]

BILLING CODE 9110-05-P